DEPARTMENT OF HEALTH AND HUMAN SERVICES

National Institutes of Health

Center for Scientific Review; Amended Notice of Meeting

Notice is hereby given of a change in the meeting of the Macromolecular Structure and Function D Study Section, October 7, 2008, 8 a.m. to October 8, 2008, 5:30 p.m., Hotel Rouge, 1315 16th Street, Washington, DC, 20036 which was published in the Federal Register on August 25, 2008, 73 FR 50046-50048.

The meeting will be held one day only October 7, 2008, from 8 a.m. to 6:30 p.m. The meeting location remains the same. The meeting is closed to the public.

Dated: August 28, 2008.
Jennifer Spaeth,
Director, Office of Federal Advisory Committee Policy.

[FR Doc. E8-20635 Filed 9-8-08; 8:45 am]

BILLING CODE 4140-01-M